DEPARTMENT OF ENERGY

Federal Energy Regulatory Commission

[Docket No. EL08-32-000]

Central Minnesota Municipal Power Agency and Midwest Municipal Transmission Group, Inc.; Notice of Filing

February 1, 2010.

Take notice that on January 25, 2010, Central Minnesota Municipal Power Agency and Midwest Municipal Transmission Group, Inc. (CMMPA/MMTG) filed with the Federal Energy Regulatory Commission an amended Petition for a Declaratory Order concerning formula rates and incentives and request for expedited relief and waivers, requesting the Commission's approval of incentive rates for their investments in the CapX2020 Twin Cities to Brookings County (Brookings) transmission line in South Dakota and Minnesota. The requested incentives are (a) 100 percent of their prudently incurred construction work-in-progress (CWIP) in rate base; (b) recovery of 100 percent of their prudently incurred costs of transmission facilities that are cancelled or abandoned for reasons beyond their control; and (c) use of a hypothetical capital structure of 55 percent equity-45 percent debt, and appropriate waivers.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 16, 2010.

Kimberly D. Bose,
Secretary.

[FR Doc. 2010-2626 Filed 2-5-10; 8:45 am]

BILLING CODE 6717-01-P